DEPARTMENT OF AGRICULTURE

Farm Service Agency

Notice of Request for Revision and Extension of Currently Approved Information Collection

AGENCY: Farm Service Agency, USDA.

ACTION: Notice and request for comments.

SUMMARY: In accordance with the Paperwork Reduction Act of 1995, this notice announces the intent of the Farm Service Agency (FSA) to request revision and extension of currently approved information collections used in support of FSA's Farm Loan Programs (FLP). The renewal includes revisions to information collections resulting from the new Low-Documentation Direct Operating Loan application process which will be published under a separate Federal Register publication titled, “Implementation of Lo-Documentation Direct Operating Loan (Lo-Doc) Regulations.” Lo-Doc makes the Direct Operating Loan program application process more consistent with the guaranteed loan program and standard industry practices. Loan processing will be more efficient and less time consuming.

DATES: Comments on this notice must be received on or before May 22, 2000 to be assured consideration.

FOR FURTHER INFORMATION CONTACT: Cathy Quayle, Senior Loan Officer, USDA, Farm Service Agency, Loan Making Division, 1400 Independence Avenue, SW, STOP 0522, Washington, D.C. 20250-0522; Telephone (202) 690-4018; Electronic mail: cquayle@wdc.fsa.usda.gov.

SUPPLEMENTARY INFORMATION: Title: Receiving and Processing Applications.

OMB Control Number: 0560-0178.

Expiration Date of Approval: April 30, 2000.

Type of Request: Revision and Extension of Currently Approved Information Collection.

Abstract: The information collected under OMB Control Number 0560-0178 is used in processing applications for direct FLP loans. Specifically, the Agency uses the information in making eligibility and financial feasibility determinations for direct operating, farm ownership, and emergency loans, as authorized under the Consolidated Farm and Rural Development Act. The specific information collected is business and entity supporting documentation on organizational structure and financial information, documentation of farm experience and training, verification that the applicant is unable to obtain credit elsewhere, historical financial and production records, and copies of any lease agreements or legal descriptions of real estate they own. Regulations are being revised under a separate Federal Register publication to implement a Lo-Doc application process which will decrease collections required from applicants requesting operating loans of $50,000 or less, or recurring annual operating loans. Lo-Doc will decrease the burden on both FSA employees and customers. Specifically, for Lo-Doc application processing only the entity supporting documentation information from this collection may be required.

Estimate of Burden: Public reporting burden for this collection of information is estimated to average 4.2 hours per response.

Respondents: Individuals or households, businesses or others for profit, and farms.

Estimated Number of Respondents: 34,970.

Estimated Number of Responses per Respondent: 5.03.

Estimated Total Annual Burden on Respondents: 147,551.

Comments are sought on these requirements including: (a) whether the collection of information is necessary for the proper performance of the functions of the agency, including whether the information will have practical utility, (b) the accuracy of the agency's estimate of burden including the validity of the methodology and assumptions used; (c) ways to enhance the quality, utility and clarity of the information to be collected; (d) ways to minimize the burden of the collection of information on those who are to respond, including through the use of appropriate automated, electronic, mechanical, or other technological collections techniques or other forms of information technology.

These comments should be sent to the Desk Officer for Agriculture, Office of Information and Regulatory Affairs, Office of Management and Budget, Washington, D.C. 20503 and to Cathy Quayle, USDA, FSA, Farm Loan Programs, Loan Making Division, 1400 Independence Avenue, SW, STOP 0522, Washington D.C. 20250-0522. Copies of the information collection may be obtained from Cathy Quayle at the above address.

Comments regarding paperwork burden will be summarized and included in the request for OMB approval of the information collection. All comments will also become a matter of public record.

Signed in Washington, D.C., on March 13, 2000.
Keith Kelly,
Administrator, Farm Service Agency.

[FR Doc. 00-7037 Filed 3-21-00; 8:45 am]

BILLING CODE 3410-05-P